ENVIRONMENTAL PROTECTION AGENCY

[EPA-HQ-OPP-2020-0260; FRL-10010-13]

Pesticides; Draft Guidance for Pesticide Registrants on the List of Pests of Significant Public Health Importance

AGENCY: Environmental Protection Agency (EPA).

ACTION: Notice of availability.

SUMMARY: The Environmental Protection Agency (EPA) is announcing the availability of and seeking public comment on a draft Pesticide Registration Notice (PR Notice) entitled, “Draft List of Pests of Significant Public Health Importance—Revised 2020.” PR Notices are issued by the Office of Pesticide Programs (OPP) to inform pesticide registrants and other interested persons about important policies, procedures, and registration related decisions, and serve to provide guidance to pesticide registrants and OPP personnel. This particular draft PR Notice provides guidance to the registrant concerning the proposal to update and replace the Pesticide Registration Notice (PRN) 2002-1, which identifies pests of significant public health importance. The United States Department of Health and Human Services (HHS), United States Department of Agriculture (USDA), and the Environmental Protection Agency (EPA) determined that updating the list to reflect the current public health situation was warranted because vector-borne diseases and related research has changed significantly since the original PR Notice was published almost 20 years ago. This update includes the addition or removal of pests, new impacts, renaming pests, or grouping pests of similar species.

DATES: Comments must be received on or before January 4, 2021.

ADDRESSES: Submit your comments, identified by docket identification (ID) number EPA-HQ-OPP-2020-0260, through http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the information on EPA/DC services, submitting comments and docket access, please visit https://www.epa.gov/dockets.

FOR FURTHER INFORMATION CONTACT: Susan Jennings, Immediate Office (7506P), Office of Pesticide Programs, Environmental Protection Agency, 1200 Pennsylvania Ave. NW, Washington, DC 20460-0001; telephone number: (706) 355-8574; email address: jennings.susan@epa.gov.

SUPPLEMENTARY INFORMATION:

I. General Information

A. Does this action apply to me?

This action is directed to the public in general. Although this action may be of particular interest to those persons who are or may be required to conduct testing of chemical substances under the Federal Food, Drug, and Cosmetic Act (FFDCA), or FIFRA. Since other entities may also be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. How can I get copies of this document and other related information?

A copy of the draft PR Notice is available in the docket, identified by docket ID number EPA-HQ-OPP-2020-0260, at http://www.regulations.gov.

II. What guidance does this PR Notice provide?

This draft PR Notice provides guidance to the registrant concerning the proposal to update and replace the Pesticide Registration Notice (PRN) 2002-1, which identifies pests of significant public health importance. The list was first published in 2002, fulfilling the requirement of FIFRA section 28(d) to identify pests of significant public health importance (see the original list: https://www.epa.gov/sites/production/files/2014-04/documents/pr2002-1.pdf). EPA, HHS and USDA believe that pests, diseases and control techniques have evolved since 2002. The list provides an interagency baseline for the federal government and the public to begin any discussions on government regulation and control of disease or disease vectors. EPA uses the list of pests of significant public health importance to develop and implement programs to improve and facilitate the safe and necessary use of chemical, biological and other methods to control pests of public health importance. When a pest is added to this list, it reflects a determination that the pest is a pest of significant public health importance and the list serves as a public reference to that effect. The publication of the updated list does not affect the regulatory status of any registration or application for registration of any pesticide product, therefore, registrants do not need to take any action.

EPA requests comment on whether there are any pests, such as the Asian giant hornet (Vespa mandarinia) or the Turkestan cockroach (Blatta lateralis), that should be added to this list to address emergent pest issues.

III. Do PR Notices contain binding requirements?

The PR Notice discussed in this document is intended to provide guidance to EPA personnel and decisionmakers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

Authority: 7 U.S.C. 136 et seq.

Dated: October 30, 2020.
Alexandra Dapolito Dunn,
Assistant Administrator, Office of Chemical Safety and Pollution Prevention.

[FR Doc. 2020-24483 Filed 11-3-20; 8:45 am]

BILLING CODE 6560-50-P